DEPARTMENT OF THE INTERIOR

National Park Service

[NPS-NERO-FLNI-12122; PMPSAS1Z.Y00000]

Notice of Flight 93 Advisory Commission Meetings for Calendar Year 2013

AGENCY: National Park Service, Interior.

ACTION: Meeting notice.

SUMMARY: This notice sets forth the dates of the February 9; May 4; July 2; and November 2, 2013, meetings of the Flight 93 Advisory Commission.

DATES: The public meeting of the Advisory Commission will be held on Saturday, February 9; May 4; July 2; and November 2, 2013, at 10:00 a.m. (Eastern).

Location: The meeting will be held at the Flight 93 National Memorial Office, 109 West Main Street, Suite 104, Somerset, PA 15501, with the exception of the February 9, 2013, meeting which will be held via teleconference.

Agenda:

The Commission meetings will consist of the following:

1. Opening of Meeting, Review and Approval of Commission Minutes

2. Reports

3. Old Business

4. New Business

5. Public Comments

6. Closing Remarks

FOR FURTHER INFORMATION CONTACT: Further information concerning this meeting may be obtained from Jeff Reinbold, Superintendent, Flight 93 National Memorial, P.O. Box 911, Shanksville, PA 15560, telephone (814) 893-6322.

SUPPLEMENTARY INFORMATION: The meeting is open to the public. Interested persons may make oral/written presentations to the Commission or file written statements. Such requests should be made to the Superintendent at least seven days prior to the meeting. Before including your address, phone number, email address, or other personal identifying information in your comment, you should be aware that your entire comment—including your personal identifying information—may be made publicly available at any time. While you can ask us in your comment to withhold your personal identifying information from public review, we cannot guarantee that we will be able to do so.

Dated: January 23, 2013.
Alma Ripps,
Acting Chief, Office of Policy.

[FR Doc. 2013-01729 Filed 1-28-13; 8:45 am]

BILLING CODE 4310-WV-P